DEPARTMENT OF JUSTICE

Office of Justice Programs

[OMB Number 1121-0021]

Agency Information Collection Activities; Proposed Collection; Comments Requested: Accounting System and Financial Capability Questionnaire

ACTION: 60-Day Notice of Information Collection Under Review.

The Department of Justice, Office of Justice Programs will be submitting the following information collection request to the Office of Management and Budget (OMB) for review and clearance in accordance with review procedures of the Paperwork Reduction Act of 1995. The proposed information collection is published to obtain comments from the public and affected agencies. If granted, the approval is valid for three years.

All comments and suggestions, or questions regarding additional information, to include obtaining a copy of the proposed information collection instrument with instructions, should be directed to should be directed to the Office of the Chief Financial Officer, Office of Justice Programs, U.S. Department of Justice, Attention: Leigh Benda, Chief Financial Officer, 810 7th St. NW., Washington, DC 20531. Comments will be accepted for 60 days until August 17, 2012. This process is conducted in accordance with 5 CFR 1320.10.

Written comments and suggestions from the public and affected agencies concerning the proposed collection of information are encouraged. Your comments should address one or more of the following four points:

— Evaluate whether the proposed collection of information is necessary for the proper performance of the functions of the agency, including whether the information will have practical utility;

— Evaluate the accuracy of the agencies estimate of the burden of the proposed collection of information, including the validity of the methodology and assumptions used;

— Enhance the quality, utility, and clarity of the information to be collected; and

— Minimize the burden of the collection of information on those who are to respond, including through the use of appropriate automated, electronic, mechanical, or other technological collection techniques or other forms of information technology, e.g., permitting electronic submission of responses.

Overview of This Information

(1) Type of information collection: Extension, without change of a currently

approved collection.

(2) The title of the form/collection: Accounting System and Financial Capability Questionnaire.

(3) Agency Form Number: 7120/1. Component Sponsoring Collection: Office of the Chief Financial Officer, Office of Justice Programs, Department of Justice.

(4) Affected public who will be asked or required to respond, as well as a brief abstract. Primary: Business or other for-profit entities and not-for-profit institutions. Other: None. The purpose of the Accounting System and Financial Capability Questionnaire is to assess the financial risk of potential recipients in administering Federal funds in accordance with OMB Circular A-110 and 28 CFR part 70.

(5) An estimate of the total number of respondents and the amount of time estimated for an average respondent to respond/reply: Total of 100 respondents estimated, at 4 hours each.

(6) An estimate of the total public burden (in hours) associated with the collection: The estimated total public burden associated with this information is 400.

If additional information is required contact: Jerri Murray, Department Clearance Officer, United States Department of Justice, Justice Management Division, Policy and Planning Staff, Two Constitution Square, 145 N Street NE., Washington, DC 20530.

Dated: June 13, 2012.
Jerri Murray,
Department Clearance Officer, PRA, U.S. Department of Justice.

[FR Doc. 2012-14777 Filed 6-15-12; 8:45 am]

BILLING CODE 4410-18-P